DEPARTMENT OF LABOR

Employment and Training Administration

[TA-W-56,871]

Block Corporation; Amory, MS; Notice of Negative Determination Regarding Application for Reconsideration

By application of May 16, 2005 a petitioner requested administrative reconsideration of the Department's negative determination regarding eligibility for workers and former workers of the subject firm to apply for Trade Adjustment Assistance (TAA) and Alternative Trade Adjustment Assistance (ATAA). The denial notice was signed on April 27, 2005 and published in the Federal Register on May 16, 2005 (70 FR 25859).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition, filed on behalf of workers at Block Corporation, Amory, Mississippi engaged in production of men's trouser samples was denied because the “contributed importantly” group eligibility requirement of section 222 of the Trade Act of 1974 was not met, nor was there a shift in production from that firm to a foreign country. The investigation revealed that the preponderance in employment declines is attributed to a domestic shift in production of men's trouser samples.

In the request for reconsideration, the petitioner alleges that the layoffs at the subject firm are attributable to an increase in imports of men's trouser samples.

A company official was contacted regarding the above allegations. The company official confirmed what was revealed during the initial investigation. In particular, the official stated that even though the subject firm has been importing a small portion of men's trouser samples, domestic production of men's trouser samples have not declined during the relevant time period. Furthermore, the official stated that the same amount of pant samples that were produced at the subject facility are now produced at another domestic facility.

Conclusion

After review of the application and investigative findings, I conclude that there has been no error or misinterpretation of the law or of the facts which would justify reconsideration of the Department of Labor's prior decision. Accordingly, the application is denied.

Signed at Washington, DC, this 7th day of June, 2005.
Elliott S. Kushner,
Certifying Officer, Division of Trade Adjustment Assistance.

[FR Doc. E5-3168 Filed 6-17-05; 8:45 am]

BILLING CODE 4510-30-P